NUCLEAR REGULATORY COMMISSION

10 CFR Part 51

[NRC-2018-0296]

RIN 3150-AK32

Renewing Nuclear Power Plant Operating Licenses—Environmental Review

Correction

In rule document 2024-16643 beginning on page 64166 in the issue of Tuesday, August 6, 2024, make the following correction:

Appendix B to Subpart A of 10 CFR Part 51 [Corrected]

On page 64197, in appendix B to subpart A of 10 CFR part 51, in the table, in the footnotes, in the third line, “¹” should read “²”.

[FR Doc. C1-2024-16643 Filed 8-20-24; 8:45 am]

BILLING CODE 0099-10-D